DEPARTMENT OF AGRICULTURE

Forest Service

Utah Northern Goshawk Project

AGENCY: Forest Service, USDA.

ACTION: Notice of Decision on the Utah Northern Goshawk Project Environmental Assessment.

SUMMARY: In the November 9, 1999, Federal Register (Vol. 64, No. 216, pages 61062-61063), notice was given by the Intermountain Region of the Forest Service that the Environmental Assessment for the Utah Northern Goshawk project was available for review and comment for 60 days.

On March 14, 2000, Regional Forester Jack A. Blackwell made his decision to implement Alternative F as the management direction to maintain and restore habitat for the northern goshawk on the National Forests in Utah. This decision amends the goals, objectives, standards, guidelines and monitoring requirements established in the current land and resource management plans (forest plans) for the Ashley, Dixie, Fishlake, Manti-LaSal, Uinta, and Wasatch-Cache National Forests. The amendments will be in effect until the forest plans are revised.

The decision may be appealed in accordance with the provisions of 36 CFR 217, as identified in the Decision Notice. The appeal period ends on May 22, 2000. Copies of the Decision Notice are available for calling 801/615-5897 or from the Utah Northern Goshawk Project's website at: www.fs.fed.us/r4/goshawk.

FOR FURTHER INFORMATION CONTACT: Questions about the Decision Notice should be directed to Peter W. Karp, Uinta National Forest Supervisor and Team Leader for the Utah Northern Goshawk Project, USDA Forest Service, PO Box 1428, Provo, UT 84601. Phone: 801/342-5100.

Dated: April 3, 2000.
Jack G. Troyer,
Deputy Regional Forester, Intermountain Region.

[FR Doc. 00-9245 Filed 4-12-00; 8:45 am]

BILLING CODE 3410-11-M